FEDERAL RESERVE SYSTEM

Agency Information Collection Activities: Announcement of Board Approval Under Delegated Authority and Submission to OMB

AGENCY: Board of Governors of the Federal Reserve System.

SUMMARY: The Board of Governors of the Federal Reserve System (Board) is adopting a proposal to extend for three years, without revision, the Applications for Employment with the Board of Governors of the Federal Reserve System (FR 28; OMB No. 7100-0181).

FOR FURTHER INFORMATION CONTACT:

Federal Reserve Board Clearance Officer—Nuha Elmaghrabi—Office of the Chief Data Officer, Board of Governors of the Federal Reserve System, nuha.elmaghrabi@frb.gov, (202) 452-3884.

Office of Management and Budget (OMB) Desk Officer for the Federal Reserve Board, Office of Information and Regulatory Affairs, Office of Management and Budget, New Executive Office Building, Room 10235, 725 17th Street NW, Washington, DC 20503, or by fax to (202) 395-6974.

SUPPLEMENTARY INFORMATION: On June 15, 1984, OMB delegated to the Board authority under the Paperwork Reduction Act (PRA) to approve and assign OMB control numbers to collections of information conducted or sponsored by the Board. Board-approved collections of information are incorporated into the official OMB inventory of currently approved collections of information. The OMB inventory, as well as copies of the PRA Submission, supporting statements (which contain more detailed information about the information collections and burden estimates than this notice), and approved collection of information instrument(s) are available at https://www.reginfo.gov/public/do/PRAMain. These documents are also available on the Federal Reserve Board's public website at https://www.federalreserve.gov/apps/reportingforms/home/review or may be requested from the agency clearance officer, whose name appears above.

Final Approval Under OMB Delegated Authority of the Extension for Three Years, Without Revision, of the Following Information Collection

Collection title: Applications for Employment with the Board of Governors of the Federal Reserve System.

Collection identifier: FR 28.

OMB control number: 7100-0181.

General description of collection: The FR 28 is comprised of the Application for Employment (FR 28a), Applicant's Voluntary Self-Identification (FR 28s), Research Assistant Candidate Survey of Interests and Computer Experience (FR 28i), and Pre-Hire Conflict of Interest Screening Form (FR 28c).

The Application for Employment (FR 28a) collects information to determine the qualifications of applicants for employment with the Board (such as education and training, employment record, and other information since the time the applicant left high school). Among other things, the FR 28a is used to examine, rate, or assess the applicant's qualifications, and to contact the applicant to arrange an interview. The Applicant's Voluntary Self-Identification (FR 28s) is an optional form that collects information on the applicant's gender, race, and ethnicity. The Research Assistant Candidate Survey of Interests and Computer Experience (FR 28i) collects information on a Research Assistant (RA) applicant's level of interest in various economic topics and experience in different data analytics/programs. The Pre-Hire Conflict of Interest Screening Form (FR 28c) collects information from external applicants after they have been selected for an interview at the Board regarding certain financial interests that could pose a conflict of interest based on the duties of the position for which they are applying.

The information collected through the FR 28 is used to assist the Board in recruiting and hiring individuals for Board employment, retaining qualified employees, and periodically reviewing its hiring practices.

Frequency: Event-generated.

Respondents: Individuals seeking employment with the Board.

Total estimated number of respondents: 17,150.

Total estimated annual burden hours: 8,109.¹

¹ More detailed information regarding this collection, including more detailed burden estimates, can be found in the OMB Supporting Statement posted at https://www.federalreserve.gov/apps/reportingforms/home/review. On the page displayed at the link, you can find the OMB Supporting Statement by referencing the collection identifier, FR 28.

Current actions: On November 15, 2023, the Board published a notice in the Federal Register (88 FR 78363) requesting public comment for 60 days on the extension, without revision, of the FR 28. The comment period for this notice expired on January 16, 2024. The Board did not receive any comments.

Board of Governors of the Federal Reserve System.
Ann Misback,
Secretary of the Board.

[FR Doc. 2024-07088 Filed 4-2-24; 8:45 am]

BILLING CODE 6210-01-P